DEPARTMENT OF COMMERCE

National Oceanic and Atmospheric Administration

RIN 0648-XP36

Endangered and Threatened Species; Recovery Plans

AGENCY: National Marine Fisheries Service (NMFS), National Oceanic and Atmospheric Administration, Commerce.

ACTION: Notice of Availability.

SUMMARY: The National Marine Fisheries Service (NMFS) announces the adoption of its Endangered Species Act (ESA) Recovery Plan (Recovery Plan) for the Lake Ozette Sockeye Salmon (Oncorhynchus nerka) Evolutionarily Significant Unit (ESU). This Recovery Plan was prepared by NMFS' Northwest Region and underwent public review. The final Recovery Plan for Lake Ozette Sockeye contains revisions and additions in consideration of public comments received on the draft Recovery Plan.

ADDRESSES: Additional information about the Recovery Plan may be obtained by writing to Rosemary Furfey, National Marine Fisheries Service, 1201 N.E. Lloyd Blvd., Suite 1100, Portland, OR 97232, or calling (503) 231-2149.

Persons wishing to read the Recovery Plan can obtain an electronic copy (i.e., CD-ROM) from Sharon Houghton by calling (503) 230-5418, or by emailing a request to Sharon.Houghton@noaa.gov, with the subject line “CD-ROM Request for Final ESA Recovery Plan for Lake Ozette Sockeye Salmon.” NMFS' summary of and response to public comments on the draft Recovery Plan for Lake Ozette Sockeye Salmon will be included on the CD-ROM. Electronic copies of these documents are also available on-line via the NMFS' website, www.nwr.noaa.gov/Salmon-Recovery-Planning/Recovery-Domains/Puget-Sound/Lake-Ozette-Plan.cfm.

FOR FURTHER INFORMATION CONTACT: Rosemary Furfey, NMFS Lake Ozette Salmon Recovery Coordinator at (503) 231-2149, or Elizabeth Gaar, NMFS Salmon Recovery Division at (503) 230-5434.

SUPPLEMENTARY INFORMATION:

Background

Recovery plans describe actions beneficial to the conservation and recovery of species listed under the Endangered Species Act of 1973 (ESA), as amended (16 U.S.C. 1531 et seq.). The ESA requires that recovery plans, to the extent practicable, incorporate (1) objective, measurable criteria, which, when met, would result in a determination that the species is no longer threatened or endangered; (2) site-specific management actions that may be necessary to achieve the plan's goals; and (3) estimates of the time required and costs to implement recovery actions. The ESA requires the development of recovery plans for listed species unless such a plan would not promote recovery of a particular species.

NMFS' goal is to restore endangered and threatened Pacific salmon ESUs and steelhead distinct population segments (DPSs) to the point that they are again self-sustaining members of their ecosystems and no longer need the protections of the ESA. NMFS believes it is critically important to base its recovery plans on the many state, regional, tribal, local, and private conservation efforts already underway throughout the region. Therefore, the agency supports and participates in locally led collaborative efforts to develop recovery plans, involving local communities, state, tribal, and Federal entities, and other stakeholders. As the lead ESA agency for listed salmon, NMFS is responsible for reviewing these locally produced recovery plans and deciding whether they meet ESA statutory requirements and merit adoption as ESA recovery plans.

In 2005, NMFS and the Lake Ozette Steering Committee (Steering Committee), an existing, locally based citizen group, began working together to write a plan for the recovery of Lake Ozette sockeye salmon (originally listed as threatened on March 25, 1999 (64 FR 14528)). The goal was to produce a plan that meets ESA requirements for recovery plans as well as the State of Washington's recovery planning outline and guidance (WDFW 2003). The Makah and Quileute Tribes, Olympic National Park, Clallam County, local land owners, Washington Governor's Salmon Recovery Office, Washington Department of Fish and Wildlife, Washington Department of Natural Resources, NMFS, U.S. Environmental Protection Agency, North Olympic Peninsula Lead Entity, private timber companies, and local citizens comprised the Steering Committee and have met periodically since 1981 to discuss natural resource issues related to sockeye salmon. The diverse representation on the Steering Committee has provided a broad and unique perspective that has lent great value to the recovery planning process.

To ensure that recovery plans are scientifically sound, NMFS has appointed teams of scientists with expertise in salmon species to provide scientific support for recovery planning in the Northwest. These technical recovery teams (TRTs) include biologists from NMFS, state, tribal, and local agencies, academic institutions, and private consulting groups. The Puget Sound TRT provided two reports for the Lake Ozette sockeye salmon recovery planning process: (1) a description of the Lake Ozette sockeye salmon population (Currents et al. 2006) and (2) viability criteria for the sockeye (Rawson et al. 2007). The TRT also reviewed the Lake Ozette Sockeye Limiting Factors Analysis (Haggerty et al. 2007), the proposed recovery plan, and coordinated an independent peer review process. Frequent Steering Committee meetings enabled NMFS and the Puget Sound TRT to share draft recovery plan products and seek review and comment as the draft plan was developed. Based on this iterative process, the availability of the Proposed Recovery Plan for Lake Ozette Sockeye Salmon was published in the Federal Register on April 23, 2008, and public comments were solicited (73 FR 21913). Other supporting documents were also made available for public review and comment, including the Draft Limiting Factors Analysis and draft Puget Sound TRT reports.

NMFS received 20 comment letters, by mail, facsimile, or e-mail, on the Proposed Recovery Plan. Public hearings were held between April 23, 2008, and June 23, 2008, in Port Angeles, WA, and Sekiu, WA. NMFS summarized the public comments and oral testimony and prepared responses, now available on the NMFS website at: www.nwr.noaa.gov/Salmon-Recovery-Planning/Recovery-Domains/Puget-Sound/Lake-Ozette-Plan.cfm. NMFS revised its Proposed Recovery Plan based on comments received.

Consistent with adoption of this final Recovery Plan, NMFS will seek to implement the actions for which it has authority, to work cooperatively on implementation of other actions, and to encourage other Federal agencies to implement Recovery Plan actions for which they have responsibility and authority. NMFS will also encourage the State of Washington to seek similar implementation commitments from state agencies and local governments. NMFS expects the Recovery Plan to help NMFS and other Federal agencies take a more consistent approach to future ESA section 7 consultations under the ESA and other ESA decisions. For example, the Recovery Plan will provide greater biological context for the effects that a proposed action may have on the listed ESU. This context will be enhanced by adding Recovery Plan science to the “best available information” for section 7 consultation opinions, section 10 habitat conservation plans, and other ESA decisions. Such information includes viability criteria for the ESU and its independent populations; better understanding of and information on limiting factors and threats impacting the ESU; better information on priority areas for addressing specific limiting factors; and better geographic context for where the ESU can tolerate varying levels of risk.

The Recovery Plan

Lake Ozette, its perimeter shore, and most of the Ozette River, which forms the outlet of the lake to the estuary and Pacific Ocean, are included in the 922,000-acre Olympic National Park. This Recovery Plan complements, recognizes, and works within the authorities of the Olympic National Park, Clallam County, the Forest Practices Habitat Conservation Plan, and tribal trust and treaty rights, and does not augment or supersede these or other authorities.

The Recovery Plan is based on a series of hypotheses about what is limiting the survival of Lake Ozette sockeye salmon. These hypotheses are based on the best available current knowledge about Lake Ozette sockeye salmon. These hypotheses are designed to be tested in the course of time through monitoring the fish, their environment, and the effects of the actions that may be taken to protect and improve the Lake Ozette sockeye's ecosystem and survival chances. The process of designing actions based on best available information, then monitoring the results to find out what works best and changing the actions as appropriate, is called adaptive management. This Recovery Plan is intended as a tool for adaptive management for Lake Ozette sockeye salmon recovery and is to be implemented within the range of the Lake Ozette Sockeye Salmon ESU.

ESU Addressed and Planning Area

Lake Ozette sockeye salmon were listed under the ESA on March 25, 1999 (64 FR 14528), as a species threatened with becoming endangered throughout all or a significant portion of its range. The Lake Ozette Sockeye Salmon ESU is unique among other ESA-listed salmon in being made up of only one population (Currens et al. 2006), with an inland range that is limited to a single freshwater watershed a short distance from the ocean. The Lake Ozette watershed has an unusual potential for protection and restoration of landscape processes to support long-term salmon survival, because it is relatively undeveloped, has a relatively low human population density, and the lake itself is located within the Olympic National Park.

The single population of Lake Ozette sockeye salmon currently contains five distinct spawning aggregations that are described in the Recovery Plan as subpopulations. The subpopulations can be grouped according to whether they spawn in tributaries or near lake beaches. Lake Ozette sockeye salmon are distinguished from other Washington sockeye salmon ESUs based on unique genetic characteristics, early river entry, the relatively large adult body size, and larger average smolt size relative to other coastal Washington sockeye salmon populations.

Lake Ozette is situated on the coastal plain between the Pacific Ocean and the Olympic Mountains. The lake is approximately 8 miles (12.9 km) long from north to south and 2 miles (3.2 km) wide, irregularly shaped, and containing several bays, distinct points, and three islands. With a surface area of 11.8 mi² (30.6 km², 7,550 acres; 3,056 ha), Lake Ozette is the third largest natural lake in Washington State. The Ozette River drains the lake from its north end and travels approximately 5.3 miles (8.5 km) along a sinuous course to the Pacific Ocean. The total drainage area of the Ozette watershed at the confluence with the Pacific Ocean is 88.4 mi² (229 km²).

Historically, the Ozette watershed supported thriving populations of sockeye salmon, which were an important element of the fisheries of the Makah and Quileute Tribes, as well as an important subsistence species for early European-American settlers in the watershed. The peak harvest of 17,500 fish was recorded in 1949, but abundance decreased rapidly in the following decades. Because of declining numbers, tribal commercial harvest ceased in 1974 and all tribal ceremonial and subsistence harvest ceased in 1982.

The Plan's Recovery Goals and Recovery Criteria

The Recovery Plan's goal is for the Lake Ozette sockeye salmon population to reach the point that it is naturally self-sustaining, no longer needs the protection of the ESA, and can be delisted. In addition, a recovery plan can have “broad-sense” goals that may go beyond the requirements for delisting to acknowledge social, cultural, or economic values regarding the listed species. NMFS and the Lake Ozette Steering Committee crafted the following vision statement describing desirable future conditions for the Lake Ozette sockeye salmon and its human and biological setting:

“The naturally spawning Lake Ozette sockeye salmon population is sufficiently abundant, productive, and diverse (in terms of life histories and geographic distribution) to provide significant ecological, cultural, social, and economic benefits. Protection and restoration of ecosystems have sustained processes necessary to maintain sockeye as well as other salmon, steelhead, and wildlife species. Community livability, economic well-being, and treaty-reserved fishing rights have benefited by balancing salmon recovery with management of local land use and fishery economies.”

To meet the ESA requirements for objective, measurable criteria for delisting, the Recovery Plan provides biological recovery criteria based on the Puget Sound TRT viability criteria for Lake Ozette sockeye salmon, as well as “threats” criteria based on the listing factors defined in ESA section 4(a)(1).

Biological Recovery Criteria

The Puget Sound TRT provided viability criteria for Lake Ozette sockeye salmon in terms of the four “viable salmonid populations” (VSP) parameters defined in NMFS technical memorandum, Viable salmonid populations and the recovery of evolutionarily significant units (McElhany et al. 2000). The Puget Sound TRT's viability criteria for Lake Ozette sockeye salmon are as follows:

Abundance: Approximately 31,250-121,000 adult spawners, over a number of years; this planning range is associated with a productivity of 1:1 recruits-per-spawner. NMFS is working with the Puget Sound TRT to develop more specific abundance and productivity targets and a specific number of years that would represent a level upon which to make a delisting decision.

Productivity (Growth Rate): Stable or increasing.

Spatial Structure: Multiple, persistent, and spatially distinct beach-spawning aggregations, augmented by tributary spawning aggregations.

Diversity: One or more persistent spawning aggregations from each major genetic and life history group historically present within that population. Maintain the distinctness between Lake Ozette sockeye salmon and kokanee.

NMFS, in coordination with the Steering Committee, concluded that the Puget Sound TRT's viability criteria should be the biological recovery criteria of this Recovery Plan.

Threats Criteria

“Threats” are the human activities or natural events that cause the factors limiting a species' survival. For example, where high water temperatures are identified as a limiting factor, removal of riparian vegetation, which causes loss of shade and results in higher water temperatures, is categorized as the threat. The threats criteria define the conditions under which the listing factors, or threats, can be considered to be addressed or mitigated. Threats criteria are provided in Section 3.3.3 of the Recovery Plan.

Causes for Decline and Current Threats

The 1999 listing of the Lake Ozette sockeye salmon ESU as threatened under the ESA was primarily attributed to concerns about low abundance and effects of small population genetic and demographic variability. A more thorough identification of limiting factors is provided in the Lake Ozette Sockeye Limiting Factors Analysis (Haggerty et al. 2009). Based on the best available information and analysis, the Lake Ozette Steering Committee's Technical Workgroup evaluated and rated each of the limiting factors hypotheses for its contribution to sockeye population or subpopulation mortality by life stage.

Some limiting factors, habitat conditions, and life histories were shared among all subpopulations, while others vary. In the Limiting Factors Analysis, the subpopulations were grouped based on spawning environment, i.e., tributary vs. beach, and limiting factors were described in three categories: those affecting the entire population; those specific to beach spawners; and those specific to tributary spawners.

Two limiting factors are hypothesized as having a high impact on all Lake Ozette sockeye salmon population segments: piscivorous fish predation on juveniles rearing in the lake, and general marine survival. Limiting factors with moderate impact on all population segments are marine mammal predation on adults re-entering the Ozette River and water quality in the Ozette River.

Limiting factors hypothesized as having a high impact specifically on beach spawners are poor-quality spawning habitat, which decreases survival in the incubation-to-emergence life stage, and predation on adults, eggs, and newly emerged fry. Limiting factors with moderate impact on beach spawners are: seasonal lake level changes; water quality issues, including turbidity and fine sediment; and competition for good quality spawning habitat, which can result in redd superimposition and decreased egg-to-fry survival.

Limiting factors hypothesized as having high impact specifically on tributary spawners are fine sediments, unstable channel, and other water quality issues that reduce spawning habitat quality and result in decreased egg-to-fry survival. High predation on fry during their emigration to the lake was identified as a limiting factor with moderate impact on tributary spawners.

Recovery Strategies and Actions

The Recovery Plan recommends an overall recovery strategy based on current research about the relationships between watershed processes, land use, and freshwater habitat. This information is then related to what is known about sockeye salmon mortality by life stage, and to the hypothesized limiting factors. The result is a hierarchy of types of recovery strategies that can form the basis for setting priorities among potential actions.

The first priority, and likely the most effective type of action, is to assess, protect, and maintain good quality habitat and the processes that create and maintain it. One example would be to protect currently used spawning areas. Another would be for willing landowners to protect forest or streamside areas with conservation easements, where trees could be allowed to grow large, mature, and eventually fall by natural forces, creating habitat conditions needed by sockeye salmon.

Next in importance and certainty of effectiveness is reconnecting isolated habitat - for example, removing a blockage in the stream, thus allowing salmon more room to spawn and rear.

Third is restoring biological processes of various kinds; this includes a wide range of potential actions. For example: restoring natural predator-prey balance by improving egg-to-fry survival and/or reducing non-native fish species by means of selective fishing; ceasing to remove large woody debris from sections of the lower Ozette River; and assessing sources of sediment and reducing sediment production and delivery to streams.

Directly restoring degraded habitat is of lower priority because it is more difficult, often more costly, and often effective only in the short-term, compared to restoring the processes that create habitat and will continue creating properly functioning habitat over time. However, some direct actions, such as placing large woody debris in carefully chosen areas, will initiate biological processes that are likely to continue naturally if accompanied by appropriate long-term riparian management. Creating new habitat is significantly more difficult than working to protect and restore existing habitat; creating new habitat is therefore of lowest priority, although in some circumstances it may be the only alternative.

NMFS, with input from the Steering Committee, evaluated the sub-basins in the Lake Ozette watershed for their importance as sockeye habitat. The Recovery Plan accordingly provides geographic priorities for recovery actions.

Habitat, harvest, and hatchery factors affecting Lake Ozette sockeye salmon are included in the recovery strategies. Hatchery and harvest management issues are presented and addressed within the context of biological processes.

NMFS and the Lake Ozette Steering Committee developed an extensive list of 121 potential projects/actions. The proposed actions are designed to address the full range of limiting factors for all life cycle stages of Lake Ozette sockeye salmon and are intended to improve the health and ecosystems of these fish.

The proposed actions are in six categories:

• Fisheries management

• Habitat-related actions

• Hatchery supplementation

• Predation-related actions

• Research, monitoring, and adaptive management

• Public education and outreach, which need to be implemented in cooperation with all appropriate permitting authorities (including Olympic National Park), and in the context of existing permits, regulations, agreements, and public processes.

Site-specific Actions

The Recovery Plan recognizes that recovery actions must be implemented at both the regional, or ESU, and watershed, or population, levels. In the case of Lake Ozette sockeye, the ESU contains only one population, so actions taken to benefit the ESU will undoubtedly benefit the sole population. Site-specific actions articulated in this Recovery Plan are intended to link directly to recovery models, watershed processes, locations (including Ozette River, tributaries, estuarine, and nearshore environments), and address primary and secondary limiting factor hypotheses. Details of the site-specific actions can be found in Appendix D of the Plan.

Research, Monitoring, and Adaptive Management

The Recovery Plan identifies the many knowledge gaps and uncertainties involved in designing recovery actions for the Lake Ozette sockeye salmon. Because the proposed recovery actions are based on hypotheses about the relationships between fish, limiting factors, human activities, and the environment, the Recovery Plan recommends research and monitoring to determine recovery progress. Monitoring is the basis for adaptive management the process of adjusting management actions and/or directions based on new information. Research, monitoring, and adaptive management are built into the Recovery Plan.

Time and Cost Estimates

Section 4(f)(1) of the ESA requires that the Recovery Plan include “estimates of the time required and the cost to carry out those measures needed to achieve the Plan's goal and to achieve intermediate steps toward that goal” (16 U.S.C. 1533[f][1]). Chapter 9 of the Recovery Plan provides cost estimates for actions where costs are available. Costs for actions that are being implemented as part of ongoing, existing programs are considered “baseline” and are not included in Chapter 9 as costs to recover Lake Ozette sockeye salmon. The overall total cost to implement recovery actions for the first 10 years of this plan is estimated to be approximately $46 million. Many of these are one-time costs.

Approximately $100,000 of the estimated implementation cost represents ongoing, annual administrative or infrastructure costs that will likely continue for the duration of implementation of the plan. Thus, it can be inferred that if recovery takes 50 years, another $4 million may be incurred over the long term to continue and maintain habitat improvements.

NMFS estimates that recovery of the Lake Ozette Sockeye Salmon ESU, like recovery for most of the ESA-listed salmon, could take 50 to 100 years. Because many uncertainties exist about how sockeye salmon and their habitat will respond to recovery actions, the costs and recovery actions in this plan focus on the first 10 years of implementation. Actions and costs will be revised over time as part of adaptive management.

Unlike other ESA-listed salmon species in Washington State, the Lake Ozette Sockeye Salmon ESU has not had a state-designated recovery board responsible for developing the recovery plan. Therefore, NMFS is working with the Lake Ozette Steering Committee and other entities, such as the newly formed North Pacific Coast Lead Entity and the Washington Coast Sustainable Salmon Partnership, to make an Implementation Plan. NMFS anticipates that the organizations potentially involved will choose to participate in recognition of the shared benefits of habitat protection and restoration. A detailed Implementation Schedule and further details of an organizational approach to implementation will be produced in 2009.

Conclusions

NMFS concludes that the Recovery Plan meets the requirements of ESA section 4(f) and thus is adopting it as the Recovery Plan for Lake Ozette Sockeye Salmon.

Literature Cited

Currens, K.P., R. Fuerstenberg, W. Graeber, K. Rawson, M. Ruckelshaus, N.J. Sands, and J. Scott. 2006. Independent populations of sockeye salmon in Lake Ozette. Puget Sound Technical Recovery Team document. March 21, 2006. Northwest Fisheries Science Center. NOAA Fisheries Service. Seattle, WA. 20p. www.nwfsc.noaa.gov/trt/puget_docs.

Haggerty, M.J., A.C. Ritchie, J.G. Shellberg, M.J. Crewson, and J. Jolonen. 2007. Lake Ozette Sockeye Limiting Factors Analysis. Prepared for the Makah Indian Tribe and NOAA Fisheries in cooperation with the Lake Ozette Sockeye Steering Committee. Port Angeles, WA.

McElhany, P., M.H. Ruckelshaus, M.J. Ford, T.C. Wainwright, and E.P. Bjorkstedt. 2000. Viable salmon populations and the recovery of evolutionarily significant units. U.S. Dept. of Commerce, NOAA Tech. Memo., NMFS-NWFSC 42. 156p.

Rawson, K., N.J. Sands, K.P.Currens, W. Graeber, M. Ruckelshaus, R. Fuerstenberg, and J.B. Scott. 2008. Viability Criteria for the Lake Ozette Sockeye Salmon ESU. Puget Sound Technical Recovery Team document. Northwest Fisheries Science Center. NOAA Fisheries Service. Seattle, WA. 39p.

Washington Department of Fish and Wildlife (WDFW). 2003. State of Washington: An Outline for Salmon Recovery Plans. December 2003. Olympia, WA. 44p.

Authority: 16 U.S.C. 1531 et seq.

Dated: May 22, 2009.
Therese Conant,
Acting Chief, Endangered Species Division, Office of Protected Resources, National Marine Fisheries Service.

[FR Doc. E9-12558 Filed 5-28-09; 8:45 am]

BILLING CODE 3510-22-S